DEPARTMENT OF ENERGY

Western Area Power Administration

Final Allocation of Provo River Project Power

AGENCY: Western Area Power Administration, DOE.

ACTION: Notice of the final allocation of Provo River Project power.

SUMMARY: Western Area Power Administration (WAPA) Colorado River Storage Project (CRSP) Management Center (MC), a federal Power Marketing Administration of the Department of Energy (DOE), announces its Final Allocation of Provo River Project Power. WAPA's Final 2025 Provo River Project Marketing Plan and Call for 2025 Resource Pool Applications (Marketing Plan) was published in the Federal Register on March 17, 2023. Applications for an allocation of Provo River Project power were due June 15, 2023. WAPA reviewed and considered the single application received and published the 2025 Provo River Project Resource Pool Proposed Power Allocation in the Federal Register on October 31, 2023. The 60-day comment period for the proposed allocations closed on January 2, 2024. WAPA received and considered two formal comments. This Federal Register notice establishes the Final Allocation of Provo River Project Power.

DATES: The final allocations will be effective on May 6, 2024.

ADDRESSES: All documentation retained by WAPA for the purpose of developing the final power allocation, including comments, letters, and other supporting documents, is available for public inspection and copying at the CRSP Management Center, Western Area Power Administration, 1800 South Rio Grande Avenue, Montrose, CO 81401. Public comments and related information may be accessed from the CRSP website at: www.wapa.gov/about-wapa/regions/crsp/power-marketing/2025-provo-power-marketing-plan/.

FOR FURTHER INFORMATION CONTACT: Mr. Brent Osiek, Vice President of Power Marketing for CRSP, 801-244-9519 or Osiek@wapa.gov; or Mr. Randolph Manion, CRSP Contracts and Energy Services Manager, Manion@wapa.gov, 720-201-3285. Written requests for information should be sent to CRSP Management Center, Western Area Power Administration, 1800 South Rio Grande Avenue, Montrose, CO 81401; faxed to 970-240-6282; or emailed to: Provo-Marketing@wapa.gov.

SUPPLEMENTARY INFORMATION: WAPA is responsible for marketing power from the Provo River Project, which is done independently from the other projects marketed by WAPA's CRSP MC, including the Salt Lake City Area Integrated Projects (SLCA/IP), Olmsted Project, and the Falcon-Amistad Projects. In addition to marketing power from these federal hydroelectric projects, WAPA's CRSP MC is responsible for approximately 2,316 miles of transmission lines and associated infrastructure across Arizona, New Mexico, Colorado, Utah, and Wyoming.

The Provo River Project is a small water development project, with a powerplant located in northern Utah. It was authorized by President Franklin D. Roosevelt, in part, as a response to the Great Depression and a severe drought that devastated Utah's agriculture and threatened municipal water supplies in the 1930s. The Provo River Project's primary function is to provide irrigation, municipal, and industrial water to users in Salt Lake and Utah Counties, Utah. The Department of the Interior, Bureau of Reclamation (Reclamation), finished construction of the Deer Creek Dam in 1938 and the Deer Creek Powerplant in 1958, which included two 2.475-megawatt generators. On June 27, 1936, Reclamation signed contract number Ilr-874 making the Provo River Water Users' Association (PRWUA) the operator of the dam and responsible for repayment of the Provo River Project. The initial investment in the power facilities was repaid in 1984 but there are ongoing costs associated with operation, maintenance, and replacement of equipment. Surplus power revenues may be used to aid the repayment of the Provo River Project irrigation investment.

Between October 15 and April 15, water may be diverted from the adjacent Weber River Basin into the Provo River Basin and stored in Deer Creek Reservoir for irrigation, municipal, and industrial purposes pursuant to the terms of the 1938 contract number Ilr-1082 between the PRWUA, PacifiCorp (formerly Utah Power and Light Company), and Reclamation, among others. The diversion creates a loss of power generation at the Weber Powerplant on the Weber River, downstream from the diversion. As a result, PacifiCorp, the owner of the Weber Powerplant, is reimbursed for its winter energy losses with Provo River Project power (Weber/Provo Water Exchange). During this winter period, Provo River Project generation above the power reimbursement amount owed to PacifiCorp is sold to Provo River Project customers as non-firm surplus energy; during the summer period, Provo River Project generation is sold to customers as non-firm energy, both without capacity. It is expected that the annual energy production from the Provo River Project will average around 17,243,527 kilowatt-hours per year.

Response to Comments on the Provo River Project 2025 Resource Pool Proposed Power Allocation

WAPA's Final 2025 Provo River Project Marketing Plan and Call for 2025 Resource Pool Applications (Marketing Plan) was published in the Federal Register on March 17, 2023 (88 FR 16433). WAPA reviewed and considered the single application received and published the 2025 Provo River Project Resource Pool Proposed Power Allocation and initiated a public comment period in the Federal Register on October 31, 2023 (88 FR 74488). During the public comment period, WAPA received one written comment and one verbal comment on the proposal. In preparing the Final Allocation of Provo River Project Power, WAPA reviewed and considered both comments received. This section summarizes and responds to those comments.

Comment(s): Utah Associated Municipal Power Systems (UAMPS) submitted one oral and one written comment, both in support of WAPA's proposal not to alter existing power allocations under the 2025 Resource Pool. UAMPS submitted an application for a portion of the 2025 Resource Pool on behalf of three of its members currently receiving Provo River Project power (Payson, Utah; Springville City, Utah; and South Utah Valley Electric Service District) to pursue a share of the 2025 Resource Pool in the event of reallocation to new applicants. However, UAMPS stated its preference was to not reallocate power under the Resource Pool.

Response: WAPA appreciates UAMPS comments in support of the proposal.

Resource Pool Power Allocation

WAPA did not receive applications for Provo River Project power from new, eligible preference entities. As noted, UAMPS submitted an application on behalf of three of its members, all existing Provo River Project contractors. After analyzing the application and taking into consideration all existing federal hydropower allocations to all Provo River Project contractors, WAPA determined no significant benefit of additional widespread use would occur by continuing forward with the 2025 Resource Pool. Therefore, WAPA will not reduce Provo River Project contractor allocations by 3 percent and will not reallocate power under the 2025 Resource Pool. All current Provo River Project allocations will remain unchanged, as defined in the Final Allocation of Provo River Project Power table below:

Allotee | Percentage entitlement | On behalf of, if applicable | Sub- percentage entitlement, if applicable
Heber Light and Power | 6.0 | Not applicable
UAMPS (In Total) | 24.0
|  | Lehi | 2.7
|  | Springville | 12.9
|  | Payson | 4.8
|  | South Utah Valley ESD | 3.6
Utah Municipal Power Agency (In Total) | 70.0
|  | Provo | 60.9
|  | Salem | 1.4
|  | Spanish Fork | 7.7

Contracting Process

After the effective date of this notice, WAPA will begin the contracting process pursuant to the Marketing Plan. That process requires each individual allottee identified in the table above to execute and return without modification WAPA's electric service contract to purchase Provo River Project energy within 6 months of the contract offer, unless otherwise agreed to in writing by WAPA. WAPA reserves the right to withdraw and reallocate any allocation if an allottee does not execute the new electric service contract by close of business September 30, 2024. The date of initial service under these contracts will be October 1, 2024, and these contracts will remain in effect through September 30, 2054.

If there is any unallocated power after this process, WAPA reserves the right to reallocate such power according to the eligibility and allocation criteria set forth in the Marketing Plan. Entities who have submitted an application pursuant to this process need not re-submit an application if they wish to be considered. WAPA will contact such eligible entities.

Legal Authority

The Marketing Plan, published in the Federal Register (88 FR 16433) on March 17, 2023, was established under the following authorities: the Provo River Project was initially authorized under a feasibility finding of the Secretary of the Interior, which was approved by the President, on November 16, 1935, pursuant to § 4 of the Act of June 25, 1910 (36 Stat. 836), and subsection B of § 4 of the Act of December 5, 1924 (43 Stat. 702) (see also Act of March 29, 1948, ch. 159, 62 Stat. 92); Reclamation Act of June 17, 1902 (Pub. L. 57-161) (32 Stat. 388); Reclamation Project Act of August 4, 1939 (Pub. L. 76-260) (53 Stat. 1187); Department of Energy Organization Act of August 4, 1977 (Pub. L. 95-91) (91 Stat. 565); and Reclamation Projects Authorization and Adjustment Act of 1992 (Pub. L. 102-575) (106 Stat. 4600, 4605), as such acts may be supplemented or amended. Allocating power from the resource pool falls within the Marketing Plan and is covered by this authority.

Regulatory Procedure Requirements

A. Review Under the National Environmental Policy Act (NEPA)

WAPA has determined that this proposed action fits within the categorical exclusion listed in Appendix B to subpart D of 10 CFR part 1021 (B4.1 contracts, policies, and marketing and allocation plans for electric power). Categorically excluded projects and activities do not require preparation of either an environmental impact statement or an environmental assessment. A copy of the categorical exclusion determination is available on the CRSP website at: wapa.gov/wp-content/uploads/2023/04/cx-02-14-22-prp-marketing-plan.pdf.

B. Determination Under Executive Order 12866

WAPA has an exemption from centralized regulatory review under Executive Order 12866. Accordingly, no clearance of this notice by the Office of Management and Budget is required.

Signing Authority

This document of the Department of Energy was signed on April 1, 2024, by Tracey A. LeBeau, Administrator, Western Area Power Administration pursuant to the above identified legal authority. For administrative purposes only, and in compliance with requirements of the Office of the Federal Register, the undersigned DOE Federal Register Liaison Officer has been authorized to sign and submit this document in electronic format for publication, as an official document of the Department of Energy. This administrative process in no way alters the legal effect of this document upon publication in the Federal Register.

Signed in Washington, DC, on April 2, 2024.
Treena V. Garrett,
Federal Register Liaison Officer, U.S. Department of Energy.

[FR Doc. 2024-07293 Filed 4-4-24; 8:45 am]

BILLING CODE 6450-01-P